INTERNATIONAL TRADE COMMISSION

[Investigation No. TA-201-77]

Fresh, Chilled, or Frozen Blueberries

Determination

On the basis of the information in the investigation, the United States International Trade Commission (“Commission”) determines pursuant to section 202(b) of the Trade Act of 1974 that fresh, chilled, or frozen blueberries ¹ are not being imported into the United States in such increased quantities as to be a substantial cause of serious injury, or threat thereof, to the domestic industry producing an article like or directly competitive with the imported article.

¹ For Customs purposes, the products covered by the investigation are provided for under Harmonized Tariff Schedule of the United States (“HTSUS”) statistical reporting numbers 0810.40.0024; 0810.40.0026; 0810.40.0029; 0811.90.2024; 0811.90.2030; and 0811.90.2040. These HTSUS numbers are provided for convenience, and the written description of the scope is dispositive.

Background

Following receipt of a request from the United States Trade Representative on September 29, 2020, the Commission instituted this investigation pursuant to section 202 of the Trade Act of 1974 to determine whether fresh, chilled, or frozen blueberries are being imported into the United States in such increased quantities as to be a substantial cause of serious injury, or the threat thereof, to the domestic industry producing an article like or directly competitive with the imported article. Notice of the institution of the Commission's investigation and of the scheduling of public hearings to be held in connection therewith was given by publishing the notice in the Federal Register (85 FR 64162 (October 9, 2020), amended at 85 FR 66360 (October 19, 2020)). In light of the restrictions on access to the Commission building due to the COVID-19 pandemic, the Commission conducted its public hearing in connection with the injury phase of the investigation through written testimony and video conference on January 12, 2021.² All persons who requested the opportunity were permitted to participate.

² The Commission changed the starting time of this hearing from 9:30 a.m. as originally scheduled to 9:00 a.m. in a subsequent notice (86 FR 3195 (January 14, 2021)).

The Commission transmitted its determination in this investigation to the President on March 29, 2021. The views of the Commission are contained in USITC Publication 5164 (March 2021), entitled Fresh, Chilled, or Frozen Blueberries: Investigation No. TA-201-77.

By order of the Commission.
Issued: March 29, 2021.
Lisa Barton,
Secretary to the Commission.

[FR Doc. 2021-06756 Filed 4-1-21; 8:45 am]

BILLING CODE 7020-02-P